DEPARTMENT OF TRANSPORTATION

Federal Aviation Administration

14 CFR Part 39

[Docket No. FAA-2005-22411; Directorate Identifier 2005-NM-074-AD; Amendment 39-14482; AD 2006-04-01]

RIN 2120-AA64

Airworthiness Directives; Airbus Model A300 B2 Series Airplanes; Model A300 B4 Series Airplanes; Model A300 B4-600 Series Airplanes; Model A300 B4-600R Series Airplanes; Model A300 F4 600R Series Airplanes; Model A300 C4-605R Variant F Airplanes; and Model A310-200 Series Airplanes; and Model A310-300 Series Airplanes

AGENCY: Federal Aviation Administration (FAA), Department of Transportation (DOT).

ACTION: Final rule.

SUMMARY: The FAA is adopting a new airworthiness directive (AD) for certain Airbus transport category airplanes. This AD requires replacing the existing cabin altitude indicator in the cabin pressure control panel with a new, improved cabin altitude indicator. This AD results from a report of injuries occurring on in-service airplanes when crewmembers forcibly initiated opening of passenger/crew doors against residual pressure causing the doors to rapidly open. We are issuing this AD to prevent injury to crewmembers, and subsequent damage to the airplane caused by rapid opening of the door.

DATES: This AD becomes effective March 24, 2006.

The Director of the Federal Register approved the incorporation by reference of certain publications listed in the AD as of March 24, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tom Stafford, Aerospace Engineer, Aerospace Engineer, International Branch, ANM-116, FAA, Transport Airplane Directorate, 1601 Lind Avenue, SW., Renton, Washington 98055-4056; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus transport category airplanes. That NPRM was published in the Federal Register on September 14, 2005 (70 FR 54321). That NPRM proposed to require replacing the existing cabin altitude indicator in the cabin pressure control panel with a new, improved cabin altitude indicator.

Comments

We provided the public the opportunity to participate in the development of this AD. We have considered the comments received.

Agreement With the NPRM

One commenter states that it agrees with the proposed requirements of the NPRM.

Request To Extend the Compliance Time

One commenter requests that the compliance time of the NPRM be extended from 22 months to 34 months. The commenter points out that a compliance time of 34 months would correlate with the French airworthiness directive that mandated the service bulletins specified in the NPRM.

We agree that the compliance time may be extended. Our intention was that the compliance time of this AD should correlate with the French airworthiness directive. We have revised the AD to specify 34 months.

Request To Revise the “Costs of Compliance” Section

This same commenter requests that the estimated cost of the NPRM be revised from $1,071 to $3,081, per airplane. The commenter states that it can provide the $3,081 dollar figure based on that fact that it has accomplished the modification on several airplanes.

We do not agree that the “Costs of Compliance” section should be revised. Based on the information provided in the new Revision 2 of the service bulletins specified in this AD, there is no change in the costs that were estimated in the NPRM. The cost analysis in AD rulemaking actions typically does not include incidental costs such as the time required to gain access and close up, time necessary for planning, or time necessitated by other administrative actions. Those incidental costs, which may vary significantly among operators, are almost impossible to calculate. No change to this AD is necessary in this regard.

Request To Limit Applicability of the NPRM

One commenter, a freighter operator, requests that the FAA consider the differences in operation between passenger and cargo operations. The commenter states that its normal flightcrew procedures require that the flightcrew open the entry door, and this event occurs after engine shutdown. The commenter states that its cabin residual warning system would alert the flightcrew if a differential pressure existed within the cabin. The commenter further notes that its flightcrew ground procedures do not refer to the cabin altitude indicator for any purpose.

We infer that the commenter is requesting that we remove cargo airplanes from the applicability of the AD. We do not agree that the requirements of this AD do not apply to cargo airplanes. We point out that cargo operator procedures may change and are not universal in application. In addition, in the event a new operator buys an airplane, the existing cargo operator procedures are not legally required to be used by the new operator. No change to this AD is necessary in this regard. However, under the provisions of paragraph (i) of the AD, we may consider requests for approval of an alternative method of compliance if sufficient data are submitted to substantiate that such a method would provide an acceptable level of safety.

Request To Address Defective Parts Manufacturer Approval (PMA) Parts

One commenter requests that the NPRM be revised to cover possible defective PMA alternative parts, rather than just a single part number, so that those defective PMA parts also are subject to the proposed AD. The commenter states that PMA manufacturers are encouraged—and in some cases, required—to identify PMA parts by alternative designations.

We concur with the commenter's general request that, if we know that an unsafe condition also exists in PMA parts, the AD should address those parts, as well as the original parts. We are not aware of other PMA parts that have a different part number. The commenter's remarks are timely in that the Transport Airplane Directorate currently is in the process of reviewing this issue as it applies to transport category airplanes. We acknowledge that there may be other ways of addressing this issue to ensure that unsafe PMA parts are identified and addressed. Once we have thoroughly examined all aspects of this issue, including input from industry, and have made a final determination, we will consider whether our policy regarding addressing PMA parts in ADs needs to be revised. We consider that to delay this AD action would be inappropriate, since we have determined that an unsafe condition exists and that replacement of certain parts must be accomplished to ensure continued safety. Therefore, no change has been made to the final rule in this regard.

Request To Reference Parts with PMA

The same commenter also requests that the language in the NPRM be changed to permit installation of other FAA-approved equivalent parts. The commenter states that the mandated installation of a certain part number “is at variance with FAR 21.303,” which permits the installation of other (PMA) parts.

We infer that the commenter would like the AD to permit installation of any equivalent PMA part so that it is not necessary for an operator to request approval of an alternative method of compliance (AMOC) in order to install an “equivalent” PMA part. Whether an alternative part is “equivalent” in adequately resolving the unsafe condition can only be determined on a case-by-case basis based on a complete understanding of the unsafe condition. We are not currently aware of any such parts. Our policy is that, in order for operators to replace a part with one that is not specified in the AD, they must request an AMOC. This is necessary so that we can make a specific determination that an alternative part is or is not susceptible to the same unsafe condition.

In response to the commenter's statement regarding a “variance with FAR 21.303,” under which the FAA issues parts with a PMA, this statement appears to reflect a misunderstanding of the relationship between ADs and the certification procedural regulations of part 21 of the FARs (14 CFR part 21). Those regulations, including section 21.303 of the FARs (14 CFR part 21.303), are intended to ensure that aeronautical products comply with the applicable airworthiness standards. But ADs are issued when, notwithstanding those procedures, we become aware of unsafe conditions in these products or parts. Therefore, an AD takes precedence over design “approvals” when we identify an unsafe condition, and mandating installation of a certain part number in an AD is not at variance with section § 21.303.

The AD provides a means of compliance for operators to ensure that the identified unsafe condition is addressed appropriately. For an unsafe condition attributable to a part, the AD normally identifies the replacement parts necessary to obtain that compliance. As stated in section 39.7 of the FARs (14 CFR 39.7), “Anyone who operates a product that does not meet the requirements of an applicable airworthiness directive is in violation of this section.” Unless an operator obtains approval for an AMOC, replacing a part with one not specified by the AD would make the operator subject to an enforcement action and result in a civil penalty. No change to the AD is necessary in this regard.

Request To Require Latest Revision of the Service Bulletin

One commenter, the manufacturer, advises that it has issued new revisions to each of the service bulletins referenced in the NPRM. The commenter also states that the new revision level was issued to inform operators that the service information was mandatory. The commenter requests that the NPRM be revised to reflect the new revision level of each of the service bulletins.

We agree that the AD should reflect the new revision level of the service bulletins and have revised the AD accordingly.

Request To Give “Credit” for a Service Bulletin

The same commenter, the manufacturer, notes that paragraph (g) of the NPRM gives credit for accomplishing the actions of Airbus Service Bulletin A310-21-2063 and A300-21-0131, both dated September 9, 2004. The commenter requests that credit also be given for accomplishing the actions specified in Airbus Service Bulletin A310-21-0131, dated September 9, 2004.

We agree to revise paragraph (g) of the AD. We have added a new Table 2, which specifies not only the requested additional service bulletin revision, but also Revision 01 for each of the service bulletins.

Clarification of Alternative Method of Compliance (AMOC) Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

This AD will affect about 194 airplanes of U.S. registry. The required actions will take about 7 work hours per airplane, at an average labor rate of $65 per work hour. Required parts will cost about $1,246 per airplane. Based on these figures, the estimated cost of this AD for U.S. operators is $329,994, or $1,701 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-04-01 Airbus: Amendment 39-14482. Docket No. FAA-2005-22411; Directorate Identifier 2005-NM-074-AD.

Effective Date

(a) This AD becomes effective March 24, 2006.

Affected ADs

(b) None.

Applicability

(c) This AD applies to Airbus Model A300 B2-1A, B2-1C, B2K-3C, and B2-203 airplanes; Model A300 B4-2C, B4-103, and B4-203 airplanes; Model A300 B4-601, B4-603, B4-620, and B4-622 airplanes; Model A300 B4-605R and B4-622R airplanes; Model A300 F4-605R and F4-622R airplanes; Model A300 C4-605R Variant F airplanes; Model A310-203, -204, -221, and -222 airplanes; and Model A310-304, -322, -324, and -325 airplanes; certificated in any category; except for those airplanes on which Airbus Modification 12857 has been incorporated in production.

Unsafe Condition

(d) This AD was prompted by a report of injuries occurring on in-service airplanes when crewmembers forcibly initiated opening of passenger/crew doors against residual pressure causing the doors to rapidly open. We are issuing this AD to prevent injury to crewmembers, and subsequent damage to the airplane caused by the rapid opening of the door.

Compliance

(e) You are responsible for having the actions required by this AD performed within the compliance times specified, unless the actions have already been done.

Replacing the Cabin Altitude Indicator

(f) Within 34 months after the effective date of this AD, replace the cabin altitude indicator (Part Number (P/N) 37000-3) in the cabin pressure control panel with a new improved cabin altitude indicator (P/N 37000-3-01), in accordance with the service bulletins specified in Table 1 of this AD, as applicable.

Table 1.—Airbus Service Bulletins
Model | Service bulletin and revision number | Date
Model A300 B2-1A, B2-1C, B2K-3C, and B2-203 airplanes; Model A300 B4-2C, B4-103, and B4-203 airplanes; Model A300 B4-601, B4-603, B4-620, and B4-622 airplanes | A300-21-0131, Revision 02 | April 20, 2005.
Model A300 B4-605R and B4-622R airplanes; Model A300 F4-605R and F4-622R airplanes; Model A300 C4-605R Variant F airplanes | A300-21-6050, Revision 02 | April 20, 2005.
Model A310-304, -322, -324, and -325 airplanes | A310-21-2063, Revision 02 | April 20, 2005.

Note 1: The service bulletins specified in Table 1 of paragraph (f) of this AD describe installation of an in-service modification equivalent to production Modification 12857.

Additional Source of Service Information

Note 2: Each of the service bulletins specified in Table 1 of paragraph (f) of this AD refers to Thales Service Bulletin 37000-3-21-001, dated October 8, 2004, as an additional source of service information.

Actions Accomplished in Accordance With Previous Service Information

(g) Replacement of the cabin altitude indicator with a new, improved indicator, in accordance with the Airbus service bulletins specified in Table 2 of this AD, as applicable, before the effective date of this AD, is acceptable for compliance with the requirements of paragraph (f) of this AD.

Table 2.—Airbus Service Bulletins Acceptable for Compliance
Model | Service bulletin and revision number | Date
Model A300 B2-1A, B2-1C, B2K-3C, and B2-203 airplanes; Model A300 B4-2C, B4-103, and B4-203 airplanes; Model A300 B4-601, B4-603, B4-620, and B4-622 airplanes | A300-21-0131, (original) A300-21-0131, Revision 01 | September 9, 2004. January 6, 2005.
Model A300 B4-605R and B4-622R airplanes; Model A300 F4-605R and F4-622R airplanes; Model A300 C4-605R Variant F airplanes | A300-21-6050, (original) A300-21-6050, Revision 01 | September 9, 2004. December 17, 2004.
Model A310-304, -322, -324, and -325 airplanes | A310-21-2063, (original) A310-21-2063, Revision 01 | September 9, 2004. January 6, 2005.

Parts Installation

(h) After the effective date of this AD, no person may install a Thales cabin altitude indicator having P/N 37000-3 on any airplane.

Alternative Methods of Compliance (AMOCs)

(i)(1) The Manager, International Branch, ANM-116, FAA, Transport Airplane Directorate, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(j) French airworthiness directive F-2005-027, dated February 16, 2005, also addresses the subject of this AD.

Material Incorporated by Reference

(k) You must use the service information specified in Table 3 of this AD to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 3.—Material Incorporated by Reference
Airbus service bulletin | Revision level | Date
A300-21-0131 | 02 | April 20, 2005.
A300-21-6050 | 02 | April 20, 2005.
A310-21-2063 | 02 | April 20, 2005.

Issued in Renton, Washington, on February 1, 2006.
Ali Bahrami,
Manager, Transport Airplane Directorate, Aircraft Certification Service.

[FR Doc. 06-1412 Filed 2-16-06; 8:45 am]

BILLING CODE 4910-13-P